FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 004059F.

Name: Pacific Multi-Modal, Inc.

Address: 840 West 12th Street, Long Beach, CA 90813.

Date Revoked: November 30, 2005.

Reason: Failed to maintain a valid bond.

License Number: 018249F.

Name: JJB Trucking Services Corp. & Shipping.

Address: 333 N. Broad Street, Elizabeth, NJ 07200.

Date Revoked: December 2, 2005.

Reason: Failed to maintain a valid bond.

License Number: 003722F.

Name: Falcon Transportation & Forwarding Corp.

Address: 500 Bi-County Boulevard, Suite 213N, Farmingdale, NY 11735.

Date Revoked: November 20, 2005.

Reason: Failed to maintain a valid bond.

License Number: 018793NF.

Name: Berr International, Inc.

Address: 8344 NW 30 Terrace, Miami, FL 33122.

Date Revoked: December 17, 2005.

Reason: Failed to maintain a valid bond.

License Number: 001227F.

Name: Fast Shipping Co.

Address: P.O. Box 523363, Miami, FL 33152.

Date Revoked: November 23, 2005.

Reason: Surrendered license voluntarily.

License Number: 015593NF.

Name: Cross Trans Service USA, Inc.

Address: 1480 Elmhurst Road, Elk Grove, IL 60007.

Date Revoked: December 18, 2005.

Reason: Failed to maintain a valid bond.

License Number: 016626NF.

Name: Touchstone Shipping & Logistics, Inc. dba JBS Transport Line.

Address: 17350 SH 249, Suite 320, Houston, TX 77064.

Date Revoked: November 25, 2005.

Reason: Failed to maintain a valid bond.

Peter J. King,
Deputy Director, Bureau of Certification and Licensing.

[FR Doc. E5-8314 Filed 1-4-06; 8:45 am]

BILLING CODE 6730-01-P